PRIVACY AND CIVIL LIBERTIES OVERSIGHT BOARD

[Notice-PCLOB-2013-02; Docket No. 2013-0004; Sequence No. 2]

Sunshine Act Meetings

TIME AND DATE: Open: 10:00 a.m.-12:00 p.m. (Eastern Time); Closed: 1:30 p.m.-3:30 p.m. on Tuesday, March 5, 2013.

PLACE: The open meeting will be held at General Services Administration (GSA), 301 7th Street SW., Room 1034, Washington, DC 20417. The closed meeting will be held at 2100 K Street NW., 4th Floor, Washington, DC 20427.

STATUS: Parts of this meeting will be open to the public. The rest of the meeting will be closed to the public.

MATTERS TO BE CONSIDERED: The Privacy and Civil Liberties Oversight Board will meet in open session to discuss the status of its startup activities, and related management and administrative matters, continue development of the Board's Fiscal Year 2013 and 2014 agenda, and to receive public input. The Board will meet in closed session to discuss internal personnel rules and practices and classified information.

PORTION OPEN TO THE PUBLIC: 10:00 a.m.-12:00 p.m.; at GSA, 301 7th Street SW., Room 1034, Washington, DC 20417.

All visitors must contact the Board Office, 202-331-1986, at least 24 hours prior to the meeting and provide name and organizational affiliation. All visitors must report to the visitor desk located in the lobby at GSA, 301 7th Street SW., Washington, DC 20417 to receive a visitor's badge. Individuals who plan to attend and require special assistance, such as sign language interpretation or other reasonable accommodations, should contact Susan Reingold, Chief Administrative Officer, 202-331-1986, at least 72 hours prior to the meeting date.

Procedures for Public Participation

Individuals wishing to address the meeting orally must provide advance notice to Claire McKenna, at claire.mckenna.pclob@dot.gov, no later than 5:00 p.m. on Friday, March 1, 2013. The notice must include the individual's name, title, organization, and a concise summary of the subject matter to be presented. Oral presentations may not exceed ten (10) minutes. The time for individual presentations will be reduced proportionately, if necessary, to afford all participants who have submitted a timely request an opportunity to be heard. Participants wishing to submit a written statement for the record must submit a copy of such statement no later than 5:00 p.m. Friday, March 1, 2013. Such statement must be typewritten, double-spaced, and may not exceed ten (10) pages. Upon receipt of the required notice, the Board will prepare an agenda, which will be available at the hearing, that identifies speakers and the time allotted for each presentation.

PORTION CLOSED TO THE PUBLIC: 1:30 p.m.-3:30 p.m.; 2100 K Street NW., 4th Floor, Washington, DC 20427.

CONTACT PERSON FOR MORE INFORMATION: Susan Reingold, Chief Administrative Officer, 202-331-1986.

Dated: February 21, 2013.
Claire McKenna,
Legal Counsel, Privacy and Civil Liberties Oversight Board.

[FR Doc. 2013-04380 Filed 2-21-13; 4:15 pm]

BILLING CODE 6820-B3-P